POSTAL REGULATORY COMMISSION

[Docket No. PI2019-1; Order No. 5103]

Public Inquiry on Service Performance Measurement Systems

AGENCY: Postal Regulatory Commission.

ACTION: Notice.

SUMMARY: The Commission is noticing a recently filed Postal Service request proposing modifications to its market dominant service performance measurement systems. This document informs the public of this proceeding and the technical conference, invites public comment, and takes other administrative steps.

DATES: Comments are due: June 17, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On May 21, 2019, the Postal Service filed a request, pursuant to 39 U.S.C. 3691(b)(2) and 39 CFR 3055.5, proposing modifications to its market dominant service performance measurement systems.¹ Accompanying the Request is a library reference, which contains a copy of the United States Postal Service, Service Performance Measurement plan, revised May 20, 2019 (both redline and clean versions).²

¹ United States Postal Service Response to Order No. 4945 and Request for Approval of Service Performance Measurement System Modification, May 21, 2019 (Request).

² Library Reference USPS-LR-PI2019-1/1, May 21, 2019.

The Postal Service proposes modifications in three areas. First, the Postal Service provides an update to the text of the Service Performance Measurement plan, which removes references to legacy measurement systems that are no longer in use. Request at 4. The update is being provided at the request of the Commission.³

³ Docket No. PI2018-2, Order Conditionally Approving Modifications to Market Dominant Service Performance Measurement Systems, November 5, 2018, at 10 (Order No. 4872).

Second, the Postal Service proposes to replace certain external service performance measurement systems with internal service performance measurement systems. Id. at 5-6. These systems measure service performance for Single-Piece First-Class Mail International—Outbound Letters and Flats, Single-Piece First-Class Mail International—Inbound Letters and Flats, and Special Services—Green Card/Return Receipt.

Third, the Postal Service requests that it be allowed to use domestic service performance measurement data as a proxy for certain aspects of inbound and outbound Single-Piece First-Class Mail International letters and flats service performance. Id. at 6-7.

Interested persons are invited to comment on any or all aspects of the Postal Service's proposed modifications concerning the service performance measurement systems. Comments are due June 17, 2019. The Commission does not anticipate the need for reply comments at this time. The Commission intends to evaluate the comments received and use those suggestions to help carry out its service performance measurement responsibilities under the Postal Accountability and Enhancement Act. Material filed in this docket will be available for review on the Commission's website, http://www.prc.gov.

It is ordered:

1. The Commission establishes Docket No. PI2019-1 for the purpose of considering the Postal Service's proposed modifications to its market dominant service performance measurement systems.

2. Interested persons may submit written comments on any or all aspects of the Postal Service's proposals no later than June 17, 2019.

3. Lyudmila Y. Bzhilyanskaya is designated to represent the interests of the general public in this docket.

4. The Secretary shall arrange for publication of this notice in the Federal Register.

By the Commission.
Stacy L. Ruble,
Secretary.

[FR Doc. 2019-11111 Filed 5-28-19; 8:45 am]

BILLING CODE 7710-FW-P